DEPARTMENT OF THE INTERIOR

National Park Service

[NPS-WASO-NRNHL-14666; PPWOCRADI0, PCU00RP14.R50000]

National Register of Historic Places; Notification of Pending Nominations and Related Actions

Nominations for the following properties being considered for listing or related actions in the National Register were received by the National Park Service before December 7, 2013). Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by January 29, 2014. Before including your address, phone number, email address, or other personal identifying information in your comment, you should be aware that your entire comment—including your personal identifying information—may be made publicly available at any time. While you can ask us in your comment to withhold your personal identifying information from public review, we cannot guarantee that we will be able to do so.

Dated: December 16, 2013.
J. Paul Loether,
Chief, National Register of Historic Places/National Historic Landmarks Program.

ARKANSAS

Arkansas County

North Washington Street Bridge, (Historic Bridges of Arkansas MPS) N. Washington St. over Holt Branch, DeWitt, 13001102

Columbia County

Magnolia Colored School Historic District, 611 S. Madison, Magnolia, 13001103

Conway County

Arkansas Christian College Administration Building, 100 W. Harding St., Morrilton, 13001101

Fulton County

Spring River Bridge, (Historic Bridges of Arkansas MPS) Riverview Dr. over Spring R., Mammoth Spring, 13001104

Pulaski County

Davidson, Julian Bunn, House, 410 S. Battery St., Little Rock, 13001105

Yell County

Evans—Neuhart House, 320 E. 5th St., Plainview, 13001106

CALIFORNIA

Mendocino County

Seabiscuit's Stud Barn, 16200 N. US 101, Willits, 13001108

San Francisco County

Mutual Savings Bank Building, 700 Market St., San Francisco, 13001107

HAWAII

Hawaii County

Hale-O-Aloha, 19-3948 Old Volcano Rd., Volcano, 13001109

ILLINOIS

Coles County

Civilian Conservation Corps Camp Shiloh Encampment Site, Illinois, 3rd PM., T11N, R9E, sec. 21, NW. 1/4, NE. 1/4, SW. 1/4, Lerna, 13001110

MINNESOTA

Cass County

South Pike Bay Site, (Woodland Tradition in Minnesota MPS) Address Restricted, Pike Bay, 13001111

MISSOURI

Webster County

Rainey Funeral Home Building, 242 E. Washington St., Marshfield, 13001112

NEW YORK

Cattaraugus County

Cattaraugus Village Commercial Historic District, 9-52 Main, 1-17 Washington, 14 Waverly Sts., Cattaraugus, 13001113

Oswego County

Kingsford Historic District, Roughly W. Bridge, W. Mohawk, W. Oneida, W. 4th & W. 5th Sts., Oswego, 13001114

NORTH CAROLINA

Durham County

Durham Hosiery Mills Dye House, 708-710 Gilbert St., Durham, 13001115

Randolph County

Dennis, William, Pottery Kiln and House Site, Address Restricted, Randleman, 13001116

OHIO

Cuyahoga County

Cleveland Centre Historic District, Roughly bounded by James & Riverbed Sts., Cuyahoga R., Cleveland, 13001117

PUERTO RICO

San Juan Municipality

Bithorn, Hiram, Municipal Stadium, Franklin Delano Roosevelt Ave., Hato Rey, 13001118

VERMONT

Chittenden County

Apartment Building at 27 and 31 Peru Street and 29 Johnson Street, (Burlington, Vermont MPS) 27 & 31 Peru & 29 Johnson Sts., Burlington, 13001119

Roberge—Desautels Apartment House, (Burlington, Vermont MPS) 54 N. Champlain St., Burlington, 13001120

WEST VIRGINIA

Hampshire County

Fort Mill Ridge Civil War Trenches, Fort Mill Ridge Rd., Romney, 13001121

A request for removal has been made for the following resources:

ARKANSAS

Jackson County

Phillips 66 Station, (Arkansas Highway History and Architecture MPS) N. corner of W. 1st and Main Sts., Swifton, 00000605

Monroe County

Palmer House, SE of Blackton off US 49, Blackton, 76000436

[FR Doc. 2014-00483 Filed 1-13-14; 8:45 am]

BILLING CODE 4312-51-P